DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Enforcement, Compliance and Analysis, tel.: 202-622-2490.

SUPPLEMENTARY INFORMATION:

Electronic Availability

The SDN List and additional information concerning OFAC sanctions programs are available on OFAC's website (https://www.treasury.gov/ofac).

Notice of OFAC Actions

On April 18, 2024, OFAC determined that the property and interests in property subject to U.S. jurisdiction of the following persons are blocked under the relevant sanctions authorities listed below.

Individuals

1. AL-TAF, Ali Asghar (a.k.a. ATTAF GHOLAMHOSEIN, Ali Asghar), Shahin Shahr, Iran; DOB 21 Dec 1978; nationality Iran; Additional Sanctions Information—Subject to Secondary Sanctions; Gender Male; National ID No. 2529687692 (Iran) (individual) [SDGT] [IRGC] [IFSR] (Linked To: KIMIA PART SIVAN COMPANY LLC).

Designated pursuant to section 1(a)(iii)(A) of Executive Order 13224 of September 23, 2001, “Blocking Property and Prohibiting Transactions With Persons Who Commit, Threaten to Commit, or Support Terrorism” (E.O. 13224), 66 FR 49079, as amended by Executive Order 13886 of September 9, 2019, “Modernizing Sanctions To Combat Terrorism,” 84 FR 48041, 3 CFR, 2019 Comp., p. 356 (E.O. 13224, as amended) for having acted or purported to act for or on behalf of, directly or indirectly, KIMIA PART SIVAN COMPANY LLC, a person whose property and interests in property are blocked pursuant to E.O. 13224, as amended.

2. ARAMBUNEZHAD, Hasan (a.k.a. HABIBI, Hasan), Iran; DOB 23 Sep 1975; POB Varamin, Iran; nationality Iran; Additional Sanctions Information—Subject to Secondary Sanctions; Gender Male; National ID No. 6589640386 (Iran) (individual) [SDGT] [IRGC] [IFSR] (Linked To: KIMIA PART SIVAN COMPANY LLC; Linked To: ISLAMIC REVOLUTIONARY GUARD CORPS (IRGC)-QODS FORCE).

Designated pursuant to section 1(a)(iii)(A) of E.O. 13224, as amended, for having acted or purported to act for or on behalf of, directly or indirectly, KIMIA PART SIVAN COMPANY LLC, a person whose property and interests in property are blocked pursuant to E.O. 13224, as amended.

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

3. AZIZKHANI, Esma'il, Sepahan City, Iran; DOB 07 Oct 1981; nationality Iran; Additional Sanctions Information—Subject to Secondary Sanctions; Gender Male; National ID No. 1285006501 (Iran) (individual) [SDGT] [IRGC] [IFSR] (Linked To: KIMIA PART SIVAN COMPANY LLC).

Designated pursuant to section 1(a)(iii)(A) of E.O. 13224, as amended, for having acted or purported to act for or on behalf of, directly or indirectly, KIMIA PART SIVAN COMPANY LLC, a person whose property and interests in property are blocked pursuant to E.O. 13224, as amended.

4. DEHGHAN, Majid, Iran; DOB 22 Sep 1988; nationality Iran; Additional Sanctions Information—Subject to Secondary Sanctions; Gender Male; National ID No. 0083115234 (Iran) (individual) [SDGT] [IRGC] [IFSR] (Linked To: FATEH ASEMAN SHARIF COMPANY).

Designated pursuant to section 1(a)(iii)(A) of E.O. 13224, as amended, for having acted or purported to act for or on behalf of, directly or indirectly, FATEH ASEMAN SHARIF COMPANY, a person whose property and interests in property are blocked pursuant to E.O. 13224, as amended.

5. EBRAHIMI FORUSHANI, Hamid Hajji (a.k.a. EBRAHIMI FORUSHAN, Hamid Hajji), Esfahan, Iran; DOB 08 Sep 1980; nationality Iran; Additional Sanctions Information—Subject to Secondary Sanctions; Gender Male; National ID No. 1141913534 (Iran) (individual) [SDGT] [IRGC] [IFSR] (Linked To: KIMIA PART SIVAN COMPANY LLC).

Designated pursuant to section 1(a)(iii)(A) of E.O. 13224, as amended, for having acted or purported to act for or on behalf of, directly or indirectly, KIMIA PART SIVAN COMPANY LLC, a person whose property and interests in property are blocked pursuant to E.O. 13224, as amended.

6. FATEHI, Mohammad Sadegh, Iran; DOB 21 Sep 1982; nationality Iran; Additional Sanctions Information—Subject to Secondary Sanctions; Gender Male; National ID No. 1288345801 (Iran) (individual) [SDGT] [IRGC] [IFSR] (Linked To: KIMIA PART SIVAN COMPANY LLC).

Designated pursuant to section 1(a)(iii)(A) of E.O. 13224, as amended, for having acted or purported to act for or on behalf of, directly or indirectly, KIMIA PART SIVAN COMPANY LLC, a person whose property and interests in property are blocked pursuant to E.O. 13224, as amended.

7. MOSHKANI, Abolfazl Ramazanzadeh (a.k.a. MASHKANI, Abolfazl Ramezanzadeh; a.k.a. REZA'I', Abolfazl), Tehran, Iran; DOB 11 Jun 1988; POB Kashan, Iran; nationality Iran; Additional Sanctions Information—Subject to Secondary Sanctions; Gender Male; National ID No. 1263617549 (Iran) (individual) [SDGT] [IRGC] [IFSR] (Linked To: ISLAMIC REVOLUTIONARY GUARD CORPS (IRGC)-QODS FORCE).

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

8. NAGHNEH, Mehdi Ghaffari (a.k.a. NAQNAH, Mahdi Ghaffari), Shar-e Kord, Iran; DOB 01 Mar 1991; POB Borujen, Iran; nationality Iran; Additional Sanctions Information—Subject to Secondary Sanctions; Gender Male; National ID No. 4640070391 (Iran) (individual) [SDGT] [IRGC] [IFSR] (Linked To: ISLAMIC REVOLUTIONARY GUARD CORPS (IRGC)-QODS FORCE).

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

9. NAHAR DANI, Reza (a.k.a. NAHAR DANI, Ali Reza), Tehran, Iran; DOB 11 Jun 1986; POB Tehran, Iran; nationality Iran; Additional Sanctions Information—Subject to Secondary Sanctions; Gender Male; National ID No. 0082970165 (Iran) (individual) [SDGT] [IRGC] [IFSR] (Linked To: ISLAMIC REVOLUTIONARY GUARD CORPS (IRGC)-QODS FORCE).

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

10. RAMSHEH, Ali Reza Nurian, Iran; DOB 25 May 1967; alt. DOB 20 Jun 1967; nationality Iran; Additional Sanctions Information—Subject to Secondary Sanctions; Gender Male; National ID No. 0938665847 (Iran) (individual) [SDGT] [IRGC] [IFSR] (Linked To: KIMIA PART SIVAN COMPANY LLC).

Designated pursuant to section 1(a)(iii)(A) of E.O. 13224, as amended, for having acted or purported to act for or on behalf of, directly or indirectly, KIMIA PART SIVAN COMPANY LLC, a person whose property and interests in property are blocked pursuant to E.O. 13224, as amended.

11. SARTAJI, Abbas (a.k.a. HEDAYAT, Reza; a.k.a. SARTAJI, Abas), Tehran, Iran; DOB 23 Aug 1983; nationality Iran; Additional Sanctions Information—Subject to Secondary Sanctions; Gender Male; Passport M51368656 (Iran); National ID No. 6039648112 (Iran) (individual) [SDGT] [IRGC] [IFSR] (Linked To: ISLAMIC REVOLUTIONARY GUARD CORPS (IRGC)-QODS FORCE).

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

12. TURANLU, Mohsen Sayyadi (a.k.a. TURANLU, Muhsin Sayyadi), Iran; DOB 23 Aug 1979; POB Shiravan, Iran; nationality Iran; Additional Sanctions Information—Subject to Secondary Sanctions; Gender Male; National ID No. 0827989709 (Iran) (individual) [SDGT] [IRGC] [IFSR] (Linked To: KIMIA PART SIVAN COMPANY LLC).

Designated pursuant to section 1(a)(iii)(A) of E.O. 13224, as amended, for having acted or purported to act for or on behalf of, directly or indirectly, KIMIA PART SIVAN COMPANY LLC. a person whose property and interests in property are blocked pursuant to E.O. 13224, as amended.

13. ZAVARAKI, Hadi Jamshidi (a.k.a. KAMALI, Hadi), Karaj, Iran; DOB 23 Apr 1986; nationality Iran; Additional Sanctions Information—Subject to Secondary Sanctions; Gender Male; National ID No. 0082700958 (Iran) (individual) [SDGT] [IRGC] [IFSR] (Linked To: ISLAMIC REVOLUTIONARY GUARD CORPS (IRGC)-QODS FORCE).

Designated pursuant to section 1(a)(iii)(A) of E.O. 13224, as amended, for having acted or purported to act for or on behalf of, directly or indirectly, ISLAMIC REVOLUTIONARY GUARD CORPS (IRGC)-QODS FORCE, a person whose property and interests in property are blocked pursuant to E.O. 13224.

14. ABUTALEBI, Mohammad Sadegh (a.k.a. ABOUTALEBI, Mohammad Sadegh; a.k.a. ABUTALEBI, Mohammad Sadiq), Qom, Iran; DOB 22 Jun 1964; nationality Iran; Additional Sanctions Information—Subject to Secondary Sanctions; Gender Male; National ID No. 0530439441 (Iran) (individual) [NPWMD] [IRGC] [IFSR] (Linked To: OJE PARVAZ MADO NAFAR COMPANY).

Designated pursuant to section 1(a)(iv) of Executive Order 13382 of June 28, 2005, “Blocking Property of Weapons of Mass Destruction Proliferators and Their Supporters,” 70 FR 38567, 3 CFR, 2005 Comp., p. 170 (E.O. 13382), for acting or purporting to act for or on behalf of, directly or indirectly, OJE PARVAZ MADO NAFAR COMPANY, a person whose property and interests in property are blocked pursuant to E.O. 13382.

15. ABUTALEBI, Ali Asghar (a.k.a. ABOUTALEBI, Ali Asghar; a.k.a. ABU TALEBI, Ali Asghar), Qom, Iran; DOB 10 Aug 1961; nationality Iran; Additional Sanctions Information—Subject to Secondary Sanctions; Gender Male; National ID No. 0530657491 (Iran) (individual) [NPWMD] [IRGC] [IFSR] (Linked To: OJE PARVAZ MADO NAFAR COMPANY).

Designated pursuant to section 1(a)(iv) of E.O. 13382 for acting or purporting to act for or on behalf of, directly or indirectly, OJE PARVAZ MADO NAFAR COMPANY, a person whose property and interests in property are blocked pursuant to E.O. 13382.

16. NAJAFI, Ali Habibi (a.k.a. HABIBI, Ali), Tehran, Iran; DOB 25 Dec 1977; nationality Iran; Additional Sanctions Information—Subject to Secondary Sanctions; Gender Male; National ID No. 0060598298 (Iran) (individual) [NPWMD] [IFSR] (Linked To: ASEMAN PISHRANEH CO. LTD)

Designated pursuant to section 1(a)(iv) of E.O. 13382 for acting or purporting to act for or on behalf of, directly or indirectly, ASEMAN PISHRANEH CO. LTD, a person whose property and interests in property are blocked pursuant to E.O. 13382.

Entities

1. ASEMAN PISHRANEH CO. LTD (a.k.a. ASEMAN PISHRANEH ENGINEERING SERVICES LIMITED LIABILITY COMPANY; a.k.a. SKY PROPULSION ENGINEERING RESEARCH AND SERVICES CONSULTING COMPANY; a.k.a. SKY PROPULSION ENGINEERING SERVICES COMPANY), Kilometer 13 of Shahid Babaei Highway, Intersection of Telo Road (Northwest Side), Aerospace Complex (Sepehr Airport), Tehran, Iran; Additional Sanctions Information—Subject to Secondary Sanctions; Organization Established Date 14 Apr 1999; National ID No. 10101922753 (Iran); Registration Number 149432 (Iran) [NPWMD] [IFSR] (Linked To: PARAVAR PARS COMPANY)

Designated pursuant to section 1(a)(iv) of E.O. 13382 for being owned or controlled by, or acting or purporting to act for or on behalf of, directly or indirectly, PARAVAR PARS COMPANY, a person whose property and interests in property are blocked pursuant to E.O. 13382.

2. FATEH ASEMAN SHARIF COMPANY (a.k.a. FATEH ASEMAN SHARIF KNOWLEDGE BASED COMPANY), 18th District, 5 Kilometers of Fatah Highway, Nord Blvd., Tehran, Iran; Additional Sanctions Information—Subject to Secondary Sanctions; National ID No. 10320891651 (Iran) [SDGT] [IRGC] [IFSR] (Linked To: ISLAMIC REVOLUTIONARY GUARD CORPS).

Designated pursuant to section 1(a)(iii)(C) of E.O. 13224, as amended, for having materially assisted, sponsored, or provided financial, material, or technological support for, or goods or services to or in support of, ISLAMIC REVOLUTIONARY GUARD CORPS, a person whose property and interests in property are blocked pursuant to E.O. 13224.

Dated: April 18, 2024.
Bradley T. Smith,
Director, Office of Foreign Assets Control, U.S. Department of the Treasury.

[FR Doc. 2024-08633 Filed 4-22-24; 8:45 am]

BILLING CODE 4810-AL-P